FEDERAL ELECTION COMMISSION

Sunshine Act Meeting

TIME AND DATE: Thursday, September 30, 2021 at 10:00 a.m.

PLACE: Virtual meeting. Note: Because of the Covid-19 pandemic, we will conduct the open meeting virtually. If you would like to access the meeting, see the instructions below.

STATUS: This meeting will be open to the public. To access the virtual meeting, go to the commission's website www.fec.gov and click on the banner to be taken to the meeting page.

MATTERS TO BE CONSIDERED:

Draft Advisory Opinion 2021-09: Certified Voter

Statement of Reasons in Support of Repayment Determination After Administrative Review—Dr. Jill Stein, Jill Stein for President (LRA #1021)

Campaign Guide for Congressional Candidates and Committees

Management and Administrative Matters

CONTACT PERSON FOR MORE INFORMATION: Judith Ingram, Press Officer ,Telephone: (202) 694-1220.

(Authority: Government in the Sunshine Act, 5 U.S.C. 552b)

Vicktoria J. Allen,
Acting Deputy Secretary of the Commission.

[FR Doc. 2021-21119 Filed 9-24-21; 11:15 am]

BILLING CODE 6715-01-P